DEPARTMENT OF COMMERCE

International Trade Administration

[A-560-836]

Mattresses From Indonesia: Notice of Court Decision Not in Harmony With the Final Determination of Antidumping Duty Investigation; Notice of Amended Final Determination; and Notice of Revocation of Antidumping Order

AGENCY: Enforcement and Compliance, International Trade Administration, Department of Commerce.

SUMMARY: On February 18, 2025, the U.S. Court of International Trade (CIT) issued its final judgment in PT. Zinus et al. v. United States, Slip Op. 25-15, Consol. Ct. No. 21-277, (February 18, 2025) (PT. Zinus III), sustaining the U.S. Department of Commerce (Commerce)'s second remand redetermination pertaining to the antidumping (AD) duty investigation of mattresses from Indonesia covering the period of investigation January 1, 2019, through December 31, 2019. Commerce is notifying the public that the CIT's final judgment is not in harmony with Commerce's final determination in that investigation, and that Commerce is amending the final determination from affirmative to negative as a result of the dumping margin assigned to PT. Zinus Global Indonesia (Zinus Indonesia) changing from 2.22 percent to 0.00 percent. Thus, Commerce is revoking the AD order on mattresses from Indonesia.

DATES: Applicable February 28, 2025.

FOR FURTHER INFORMATION CONTACT: Brian Smith, AD/CVD Operations, Office VIII, Enforcement and Compliance, International Trade Administration, U.S. Department of Commerce, 1401 Constitution Avenue NW, Washington, DC 20230; telephone: (202) 482-1766.

SUPPLEMENTARY INFORMATION:

Background

On March 25, 2021, Commerce published its Final Determination in the AD investigation of mattresses from Indonesia. Commerce calculated a weighted-average dumping margin of 2.22 percent for Zinus Indonesia, the sole mandatory respondent in the investigation.¹ Commerce subsequently published the AD order on mattresses from Indonesia.²

¹ See Final Affirmative Determination of Sales at Less Than Fair Value, 86 FR 15899 (March 25, 2021) (Final Determination), and accompanying Issues and Decision Memorandum (IDM).

² See Mattresses from Cambodia, Indonesia, Malaysia, Serbia, Thailand, the Republic of Turkey, and the Socialist Republic of Vietnam: Antidumping Duty Orders and Amended Final Affirmative Antidumping Determination for Cambodia, 86 FR 26460 (May 14, 2021) (Order).

Zinus Indonesia and the petitioner ³ both appealed Commerce's Final Determination. On March 20, 2023, the CIT sustained Commerce's selection of financial statements for purposes of calculating profit, the profit cap, the sales deduction adjustment made to Zinus Indonesia's reported constructed export price (CEP) transactions, and, Commerce's decision not to request an unnecessary reconciliation, but remanded Commerce's U.S. sales allocation methodology for CEP inventory sales, Zinus Indonesia's parent company's (i.e., Zinus Korea's) selling expenses calculation, and Commerce's use of Indonesian import data from Global Trade Atlas (GTA) data in applying the transactions disregarded rule.⁴

³ The petitioner is Brooklyn Bedding, LLC, Corsicana Mattress Company, Elite Comfort Solutions, FXI, Inc., Innocor, Inc., Kolcraft Enterprises Inc., Leggett & Platt, Inc., International Brotherhood of Teamsters, and United Steel, Paper and Forestry, Rubber, Manufacturing, Energy, Allied Industrial and Service Workers International Union, AFL-CIO.

⁴ See PT. Zinus Global Indonesia et al. v. United States, 628 F. Supp. 3rd 1252 (CIT 2023) (First Remand Order or PT. Zinus I).

In its first remand redetermination, issued on June 9, 2023, Commerce further explained: (1) why certain models of subject mattresses in transit should continue to be included in the U.S. sales allocation methodology; (2) how information on the record demonstrated that Zinus Korea's role in the sales process was minimal and the treatment of its selling expenses had no impact on the margin calculation results; and (3) why it remained appropriate to use GTA data for the relevant inputs into Indonesia, rather than an average of Indonesia's import data with that of other countries.⁵ Although the CIT sustained Commerce's use of Indonesian import data from GTA in applying the transactions disregarded rule, the CIT remanded for a second time Commerce's inclusion of the in-transit mattress quantity in the U.S. sales allocation methodology and suggested that Commerce consider reopening the record to address missing sales data, and inventory and in-transit mattress issues.⁶ Regarding Zinus Korea's selling expenses, Commerce requested a remand to correct existing deficiencies and contradictions in the record with respect to Zinus Korea's reported selling functions.

⁵ See Final Results of Redetermination Pursuant to Court Remand, PT. Zinus Global Indonesia et al. v. United States, 628 F. Supp. 3rd 1252 (CIT 2023), dated June 9, 2023 (First Remand Redetermination), available at https://access.trade.gov/public/FinalRemandRedetermination.aspx.

⁶ See PT. Zinus Global Indonesia et al. v. United States, 686 F. Supp. 3rd 1349 (CIT 2024) (Second Remand Order or PT. Zinus II).

In its final remand redetermination, issued on May 16, 2024, Commerce determined that the additional information requested from Zinus Indonesia: (1) clearly established that the pre-existing mattress inventory and purchase data were sufficient to cover the reported sales and that it was no longer justified to include in-transit mattresses in the U.S. sales allocation methodology; and (2) information clarifying the selling functions performed by Zinus Korea and the associated selling expenses did not ultimately affect Zinus' margin. However, after making the above-mentioned adjustment to the U.S. sales allocation methodology, the resulting margin calculated for Zinus Indonesia was 0.00 percent, indicating a negative determination.⁷ The CIT sustained Commerce's Second Remand Redetermination.⁸

⁷ See Final Results of Redetermination Pursuant to Court Remand, PT. Zinus Global Indonesia et al. v. United States, 686 F. Supp. 3rd 1349 (CIT 2024), dated May 16, 2024 (Second Remand Redetermination), available at https://access.trade.gov/public/FinalRemandRedetermination.aspx.

⁸ See PT. Zinus III, Slip Op. 25-10, whereby the CIT sustained the Commerce's Second Remand Redetermination.

Timken Notice

In its decision in Timken,⁹ as clarified by Diamond Sawblades,¹⁰ the U.S. Court of Appeals for the Federal Circuit held that, pursuant to sections 516A(c) and (e) of the Tariff Act of 1930, as amended (the Act), Commerce must publish a notice of court decision that is not “in harmony” with a Commerce determination and must suspend liquidation of entries pending a “conclusive” court decision. The CIT's February 18, 2025, judgment constitutes a final decision of the CIT that is not in harmony with Commerce's Final Determination. Thus, this notice is published in fulfillment of the publication requirements of Timken.

⁹ See Timken Co. v. United States, 893 F.2d 337 (Fed. Cir. 1990) (Timken).

¹⁰ See Diamond Sawblades Manufacturers Coalition v. United States, 626 F.3d 1374 (Fed. Cir. 2010) (Diamond Sawblades).

Amended Final Determination

Because there is now a final court judgment, Commerce is amending its Final Determination with respect to Zinus Indonesia's weighted-average dumping margin as follows:

Producer/exporter | Weighted average dumping margin (percent)
PT. Zinus Global Indonesia | 0.00

Revocation of the Order

Pursuant to the CIT's decision in PT. Zinus III affirming Commerce's decisions as described above, Commerce is revoking the AD Order on mattresses from Indonesia pursuant to section 751(d) of the Act and 19 CFR 351.222(b)(2). As a result of this revocation, Commerce is discontinuing the current administrative review effective immediately and will not initiate any new administrative reviews of the AD Order.

Cash Deposit Requirements

Commerce will instruct U.S. Customs and Border Protection to discontinue the collection of cash deposits for estimated antidumping duties, effective February 28, 2025.

Pursuant to Timken, Hosiden,¹¹ and Diamond Sawblades, the suspension of all entries of mattresses from Indonesia within the scope of the AD Order entered, or withdrawn from warehouse, for consumption beginning on February 28, 2025, that remained unliquidated and are not deemed liquidated as of February 28, 2025, will continue until there is a “final and conclusive” court decision.

¹¹ See Hosiden Corp. v. United States, 861 F. Supp. 115 (Fed. Cir. 1994).

Similarly, the suspension of liquidation and cash deposits on all entries of mattresses of Zinus Indonesia, PT Ecos Jaya Indonesia (Ecos) and PT Grantec Jaya Indonesia (Grantec) subject to injunctions in litigation of the investigation and the first and second administrative review results will continue and be retained, respectively, until there is a “final and conclusive” court decision on the investigation and in accordance with the results of the respective litigations. For the entries that are currently being administratively suspended for the third administrative review (i.e., May 1, 2022 through April 30, 2023) for Zinus Indonesia, Ecos and Grantec, and any entries that entered between May 1, 2023 (i.e., the date after end of third administrative review period) and February 28, 2025, the suspension of liquidation and cash deposits will likewise continue and be retained, respectively, until there is a “final and conclusive” court decision on the investigation. Once there is a final and conclusive court decision on the investigation, Commerce will take further action in accordance with the results of the litigation.

Notification to Interested Parties

This notice is issued and published in accordance with sections 516A(c) and (e) and 777(i)(1) of the Act.

Dated: February 26, 2025.
Christopher Abbott,
Deputy Assistant Secretary for Policy and Negotiations performing the non-exclusive functions and duties of the Assistant Secretary for Enforcement and Compliance.

[FR Doc. 2025-03529 Filed 3-4-25; 8:45 am]

BILLING CODE 3510-DS-P